DEPARTMENT OF DEFENSE

Department of the Army

[Docket ID USA-2010-0016]

Proposed Collection; Comment Request

AGENCY: Office of the Administrative Assistant to the Secretary of the Army, (OAA-AAHS-RDR-C), DoD.

ACTION: Notice.

SUMMARY: In compliance with section 3506(c)(2)(A) of the Paperwork Reduction Act of 1995, the Department of the Army proposes to extend a public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 30, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Assistant Secretary of the Army (Manpower & Reserve Affairs)/G-1, Attn: SAMR-FMMR, (Dr. John Anderson), 111 Army Pentagon, Washington, DC 20310-0111; or call Department of the Army Reports clearance officer at (703) 428-6440.

Title, Associated Form, and OMB Number: The Contractor Manpower Reporting System; OMB Control Number 0702-0120.

Needs and Uses: This program greatly enhances the ability of the Army to identify and track its contactor workforce. Current systems do not have contractor manpower data that is collected by the contractor Manpower Reporting System—i.e., Direct Labor Hours, Direct Labor Dollars and Organization supported. Existing financial and procurement systems have obligation amounts of an unknown mix of services and supplies, and the Department of the Army is not able to trace the funding to the organization supported. Like all other Federal Government agencies, the Army's reliance on service contractor employees has increased significantly over the past few years.

Affected Public: Business or other for profit.

Annual Burden Hours: 1,018.

Number of Respondents: 12,215.

Responses per Respondent: 1.

Average Burden per Response: 5 minutes.

Frequency: Annually.

SUPPLEMENTARY INFORMATION:

Summary of Information Collection

The Contractor Manpower Reporting System represents a program aimed at obtaining information regarding the use of contractor employees by the Army. Reliance on contractors in support of military operations will continue and likely grow. This guidance emphasizes the fact that armed forces are deploying and will deploy without a standard means of tracking the contractor workforce. Section 807 of the National Defense Authorization Act for Fiscal Year 2008 requires the Secretary of Defense not later than the third quarter of each fiscal year to submit to Congress an annual inventory of the activities performed during the preceding year pursuant to contracts for services for or on behalf of the Department of Defense.

Dated: June 28, 2010.
Mitchell S. Bryman,
Alternate OSD Federal Register Liaison Officer, Department of Defense.

[FR Doc. 2010-16002 Filed 6-30-10; 8:45 am]

BILLING CODE 5001-06-P